DEPARTMENT OF TRANSPORTATION

Federal Highway Administration

[Project Number STP-0022-01 (059)]

Environmental Impact Statement: Harrison, Jackson, Stone, Perry, George, and Greene Counties, MS

AGENCY: Federal Highway Administration (FHWA), Department of Transportation (DOT).

ACTION: Revision to the Original Notice of Intent.

SUMMARY: The Federal Highway Administration is issuing this revised Notice of Intent to advise the public of changes to the logical termini for the Environmental Impact Statement that will be prepared to study improvements to State Route 15/State Route 57 to provide a four-lane facility beginning in the vicinity of the State Route 67/I-110 Interchange in Harrison County, Mississippi and terminating on State Route 15 north of Beaumont, Mississippi, a distance of approximately 61 miles. The original Notice of Intent for this project appeared in the July 17, 2008 Federal Register.

FOR FURTHER INFORMATION CONTACT: Mr. Dickie Walters, Environmental Protection Specialist, Federal Highway Administration, 666 North Street, Suite 105, Jackson, MS 39202-3199, Telephone: (601) 965-4217. Contacts at the State and local level, respectively are: Mr. Claiborne Barnwell, Environmental/Location Division Engineer, Mississippi Department of Transportation, P.O. Box 1850, Jackson, MS 39215-1850, telephone: (601) 359-7920; and Mr. Steven Twedt, District 6 Engineer, Mississippi Department of Transportation, 6356 Highway 49 North, Hattiesburg, MS 39403-0551, telephone (601) 544-6511.

SUPPLEMENTARY INFORMATION: The FHWA, Mississippi Division Office will serve as the lead Federal agency for this project while the Mississippi Department of Transportation (MDOT) will serve as joint lead agency. The FHWA, in cooperation with MDOT, will prepare an Environmental Impact Statement (EIS) to study potential improvements to State Route 15/State Route 57 (SR 15/SR 57) in order to provide a four-lane facility. This approximately 61-mile long corridor has logical termini near the State Route 67/I-110 interchange in Harrison County and on State Route 15 north of Beaumont, MS in Perry County. The termini on the southern end of the project is a change from the original southern termini which began in the vicinity of Ramsey Springs, MS and was identified in the original Notice of Intent for this project which appeared in the July 17, 2008 Federal Register. The purpose of the EIS is to address the transportation, environmental, and safety issues of such a transportation corridor. The transportation facility will greatly enhance hurricane evacuation from the Mississippi Gulf, provide a new four-lane facility, and meet legislative intent. Alternatives under consideration include (1) taking no action and (2) build alternatives. The FHWA and MDOT are seeking input as a part of the scoping process to assist in determining and clarifying issues relative to this project. Letters describing the proposed action and soliciting comments will be sent to appropriate Federal, State, and local agencies, Native American tribes, private organizations and citizens who have previously expressed or are known to have interest in this proposal. Another formal scoping meeting with Federal, State, and local agencies, and other interested parties will be held in the near future. Public involvement meetings will be held during the EIS process. The draft EIS will be available for public and agency review and comment prior to the official public hearing. To ensure that the full range of issues related to this proposed action is addressed and all significant issues identified, comments and suggestions are invited from all interested parties. Comments or questions concerning this proposed action and the EIS should be directed to the FHWA at the address provided above.

Dated: May 21, 2009.
Donald E. Davis,
Federal Highway Administration, Assistant Division Administrator, Mississippi Division, Jackson, Mississippi.

[FR Doc. E9-12387 Filed 5-27-09; 8:45 am]

BILLING CODE P